ENVIRONMENTAL PROTECTION AGENCY

40 CFR Parts 52 and 81

[EPA-R08-OAR-2018-0235; FRL-9993-66-Region 8]

Approval and Promulgation of Air Quality Implementation Plans; State of Montana; Missoula PM10 Nonattainment Area Limited Maintenance Plan and Redesignation Request

AGENCY: Environmental Protection Agency (EPA).

ACTION: Final rule.

SUMMARY: The Environmental Protection Agency (EPA) is approving the Limited Maintenance Plan (LMP), submitted by the State of Montana to the EPA on August 3, 2016, for the Missoula moderate particulate matter with an aerodynamic diameter less than or equal to a nominal 10 micrometers (PM10) nonattainment area (Missoula NAA) and concurrently redesignating the Missoula NAA to attainment of the 24-hour PM10 National Ambient Air Quality Standard (NAAQS). In order to approve the LMP and redesignation, the EPA is determining that the Missoula NAA has attained the 1987 24-hour PM10 NAAQS of 150 µg/m³. This determination is based upon monitored air quality data for the PM10 NAAQS during the years 2015-2017. The EPA is also approving the Missoula LMP as meeting the appropriate transportation conformity requirements. Lastly, the EPA is approving certain rule revisions the Missoula City-County Air Pollution Control Program submitted on August 3, 2016, and August 22, 2018.

DATES: Effective June 24, 2019.

ADDRESSES: The EPA has established a docket for this action under Docket ID Number EPA-R08-OAR-2018-0235. All documents in the docket are listed on the http://www.regulations.gov website. Although listed in the index, some information is not publicly available, e.g., confidential business information (CBI) or other information whose disclosure is restricted by statute. Certain other material, such as copyrighted material, is not placed on the internet and will be publicly available only in hard copy form. Publicly available docket materials are available through , or please contact the person identified in the FOR FURTHER INFORMATION CONTACT section for additional availability information.

FOR FURTHER INFORMATION CONTACT: James Hou, Air Program, U.S. Environmental Protection Agency (EPA), Region 8, Mail Code 8ARD-QP, 1595 Wynkoop Street, Denver, Colorado 80202-1129, (303) 312-6210, hou.james@epa.gov.

SUPPLEMENTARY INFORMATION: Throughout this document “we,” “us,” and “our” means the EPA.

I. Background

The Missoula NAA encompasses the City of Missoula and was designated nonattainment for the 1987 24-hour PM10 NAAQS and classified as moderate under section 107(d)(4)(B), following enactment of the Clean Air Act (CAA) Amendments of 1990. See 56 FR 56694 (November 6, 1991). On August 30, 1995, the EPA fully approved the Missoula NAA PM10 plan including reasonably available control measures (RACM), an attainment demonstration, emissions inventory, quantitative milestones, and control and contingency requirements.

The factual and legal background for this action is discussed in detail in our March 5, 2019 (84 FR 7846) proposed approval of certain rule revisions to the Missoula City-County Air Pollution Control Program, the Missoula Limited Maintenance Plan, the Missoula LMP as meeting the appropriate transportation conformity requirements, and concurrent redesignation of the Missoula NAA to attainment of the NAAQS for PM10.

II. Response to Comments

The public comment period on the EPA's proposed rule opened on March 5, 2019, the date of its publicaction in the Federal Register, (84 FR 7846), and closed on April 4, 2019. During this time, the EPA received no comments.

III. Final Action

The EPA is making the determination that the Missoula NAA has attained the 1987 24-hour PM10 NAAQS of 150 µg/m³. This determination is based upon monitored air quality data for the PM10 NAAQS during the years 2015-2017. Additionally, the EPA is approving the Missoula NAA LMP submitted on August 3, 2016, as meeting the applicable CAA requirements, and we have determined the LMP to be sufficient to provide for maintenance of the PM10 NAAQS over the course of the 10-year maintenance period out to 2029. The EPA is also approving the Missoula LMP as meeting the appropriate transportation conformity requirements found in 40 CFR 93, subpart A. The EPA is approving most of the revisions submitted on August 3, 2016 and August 22, 2018 (Chapter 4 revisions). Specifically, the EPA is approving revisions to the eight chapters on Definitions, Failure to Attain Standards, Emergency Episode Avoidance Plan, Industrial Sources, Fugitive Particulate, Solid Fuel Burning Devices, Administrative Procedures, and Penalties. As identified in Section IV of the March 5, 2019 proposed approval, the EPA is not acting on Chapter 9, rule 9.204 in the August 3, 2016 submittal or the IBR revisions in the August 22, 2018 submittal. Lastly, this rule redesignates the Missoula NAA from nonattainment to attainment of the PM10 NAAQS. A list of the revisions to the Missoula City-County Air Pollution Control Program that the EPA is approving is outlined in Table 1 below.

Table 1—List of Montana Revisions That EPA Is Approving
Revised sections in August 3, 2016 and August 22, 2018 submissions that EPA is approving
August 3, 2016 submittal—Missoula City-County Air Pollution Control Program:
2.101, 3.102, 4.102, 4.103, 4.104, 4.112, 4.113, 6.101, 6.102, 6.106, 6.107, 6.108, 6.501, 6.502, 6.504, 6.601, 6.605, 7.101, 7.106, 7.107, 7.110, 8.101, 8.102, 8.104, 8.202, 8.203, 8.204, 8.205, 9.101, 9.102, 9.103, 9.104, 9.201, 9.202, 9.203, 9.205, 9.206, 9.207, 9.208, 9.209, 9.210, 9.211, 9.301, 9.302, 9.401, 9.402, 9.501, 9.601, 14.106, 14.107, 15.104.
August 22, 2018 submittal—Missoula City-County Air Pollution Control Program:
4.103, 4.104, 4.112.

IV. Incorporation by Reference

In this document, the EPA is finalizing regulatory text that includes incorporation by reference. In accordance with requirements of 1 CFR 51.5, the EPA is finalizing the incorporation by reference of the Regulations described in the amendments to 40 CFR part 52 set forth below. The EPA has made, and will continue to make, these materials generally available through www.regulations.gov and at the EPA Region 8 Office (please contact the person identified in the FOR FURTHER INFORMATION CONTACT section of this preamble for more information). Therefore, these materials have been approved by the EPA for inclusion in the State implementation plan (SIP), have been incorporated by reference by the EPA into that plan, are fully federally enforceable under sections 110 and 113 of the CAA as of the effective date of the final rulemaking of the EPA's approval, and will be incorporated by reference in the next update to the SIP compilation.

V. Statutory and Executive Orders Review

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 23, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Particulate matter, Reporting and recordkeeping requirements.

40 CFR Part 81

Environmental protection, Air pollution control, National Parks, Wilderness areas.

Dated: May 18, 2019.
Debra Thomas,
Acting Regional Administrator, EPA Region 8.

40 CFR parts 52 and 81 are amended as follows:

PART 52—APPROVAL AND PROMULGATION OF IMPLEMENTATION PLANS

1. The authority citation for part 52 continues to read as follows:

Authority: 42 U.S.C. 7401 et seq.

Subpart BB—Montana

2. In § 52.1370:

a. In the table in paragraph (c), under (c)(2)(iv) (“Missoula County”), is amended by:

i. Revising the table entries for “2.101,” “3.102,” “4.102,” “4.103,” “4.104,” “6.101,” “6.102,” “6.103,” “6.106,” “6.107,” “6.108,” “6.501,” “6.502,” “6.504,” “6.601,” “7.101,” “7.106,” “7.107,” “7.110,” “8.101,” “8.102,” “8.104,” “8.202,” “8.203,” “8.204,” “8.205,” “9.101,” “9.102,” “9.103,” and “9.104,” “14.106,” “14.107,” and “15.104;”

ii. Removing the table entries for “4.112,” “9.105,” “9.106,” “9.107,” “9.108,” “9.109,” “9.110,” “9.111,” “9.112,” “9.113,” “9.114,” “9.115,” “9.116,” “9.117,” “9.118,” and “9.119;”

iii. Adding in numerical order the table entries for “4.113,” “9.201,” 9.202,” 9.203,” “9.205,” “9.206,” “9.207,” “9.208,” “9.209,” “9.210,” “9.211,” “9.301,” “9.302,” “9.401,” “9.402,” “9.501,” and “9.601”; and

b. In the table in paragraph (e) under (e)(6) (“Missoula County”), by adding in alphabetical order an entry for “Missoula 1987 PM10 Limited Maintenance Plan”.

The revisions and additions read as follows:

§ 52.1370 Identification of plan.

* * * * *

(c) * * *

State citation | Rule title | State effective date | EPA final rule date | Final rule citation | Comments
* * * * * * *
(2) County Specific
* * * * * * *
(iv) Missoula County
* * * * * * *
2.101 | Definitions | 5/14/2010 | 5/24/2019 | [Insert Federal Register citation] |
* * * * * * *
3.102 | Particulate Matter Contingency Measures | 3/21/2014 | 5/24/2019 | [Insert Federal Register citation] |
* * * * * * *
4.102 | Applicability | 5/14/2010 | 5/24/2019 | [Insert Federal Register citation] |
4.103 | General provisions | 5/14/2010, 4/06/2018 | 5/24/2019 | [Insert Federal Register citation] |
4.104 | Air Pollution Control Stages | 5/14/2010, 4/06/2018 | 5/24/2019 | [Insert Federal Register citation] |
* * * * * * *
4.113 | Contingency Measure | 5/14/2010 | 5/24/2019 | [Insert Federal Register citation] |
* * * * * * *
6.101 | Definitions | 3/21/2014 | 5/24/2019 | [Insert Federal Register citation] |
6.102 | Air Quality Permit Required | 5/14/2010, 3/21/2014 | 5/24/2019 | [Insert Federal Register citation] |
6.103 | General Conditions | 3/21/2014 | 5/24/2019 | [Insert Federal Register citation] |
* * * * * * *
6.106 | Public Review of Air Quality Permit Application | 3/21/2014 | 5/24/2019 | [Insert Federal Register citation] |
6.107 | Issuance or Denial of an Air Quality Permit | 3/21/2014 | 5/24/2019 | [Insert Federal Register citation] |
6.108 | Revocation or Modification of an Air Quality Permit | 3/21/2014 | 5/24/2019 | [Insert Federal Register citation] |
* * * * * * *
6.501 | Emission Control Requirements | 5/14/2010 | 5/24/2019 | [Insert Federal Register citation] |
6.502 | Particulate Matter from Fuel Burning Equipment | 5/14/2010 | 5/24/2019 | [Insert Federal Register citation] |
* * * * * * *
6.504 | Visible Air Pollutants | 5/14/2010 | 5/24/2019 | [Insert Federal Register citation] |
* * * * * * *
6.601 | Minimum Standards | 5/14/2010, 3/21/2014 | 5/24/2019 | [Insert Federal Register citation] |
* * * * * * *
7.101 | Definitions | 3/21/2014 | 5/24/2019 | [Insert Federal Register citation] |
* * * * * * *
7.106 | Minor Outdoor Burning Source Requirements | 3/21/2014 | 5/24/2019 | [Insert Federal Register citation] |
7.107 | Major Outdoor Burning Source Requirements | 3/21/2014 | 5/24/2019 | [Insert Federal Register citation] |
* * * * * * *
7.110 | Conditional Outdoor Burning Permits | 3/21/2014 | 5/24/2019 | [Insert Federal Register citation] |
* * * * * * *
8.101 | Definitions | 3/21/2014 | 5/24/2019 | [Insert Federal Register citation] |
8.102 | General Requirements | 3/21/2014 | 5/24/2019 | [Insert Federal Register citation] |
* * * * * * *
8.104 | Construction and Mining Sites | 3/21/2014 | 5/24/2019 | [Insert Federal Register citation] |
* * * * * * *
8.202 | New Roads in the Air Stagnation Zone | 3/21/2014 | 5/24/2019 | [Insert Federal Register citation] |
8.203 | New Parking Areas in the Air Stagnation Zone | 3/21/2014 | 5/24/2019 | [Insert Federal Register citation] |
8.204 | New Driveways in the Air Stagnation Zone | 3/21/2014 | 5/24/2019 | [Insert Federal Register citation] |
8.205 | Unpaved Access Roads | 3/21/2014 | 5/24/2019 | [Insert Federal Registercitation] |
* * * * * * *
9.101 | Intent | 5/14/2010 | 5/24/2019 | [Insert Federal Register citation] |
9.102 | Definitions | 5/14/2010 | 5/24/2019 | [Insert Federal Register citation] |
9.103 | Fuels | 5/14/2010 | 5/24/2019 | [Insert Federal Register citation] |
9.104 | Non-Alert Visible Emission Standards | 5/14/2010 | 5/24/2019 | [Insert Federal Register citation] |
9.201 | Swan River Watershed Exempt from Subchapter 2 Rules | 5/14/2010 | 5/24/2019 | [Insert Federal Register citation] |
9.202 | Permits Required for Solid Fuel Burning Devices | 5/14/2010 | 5/24/2019 | [Insert Federal Register citation] |
9.203 | Installation permits Inside the Air Stagnation Zone | 5/14/2010, 3/21/2014 | 5/24/2019 | [Insert Federal Register citation] |
9.205 | Alert Permits | 5/14/2010 | 5/24/2019 | [Insert Federal Register citation] |
9.206 | Sole Source Permits | 5/14/2010 | 5/24/2019 | [Insert Federal Register citation] |
9.207 | Special Need Permits | 5/14/2010 | 5/24/2019 | [Insert Federal Register citation] |
9.208 | Temporary Sole Source Permit | 5/14/2010 | 5/24/2019 | [Insert Federal Register citation] |
9.209 | Permit Applications | 5/14/2010 | 5/24/2019 | [Insert Federal Register citation] |
9.210 | Revocation or Modification of Permit | 5/14/2010 | 5/24/2019 | [Insert Federal Register citation] |
9.211 | Transfer of Permit | 5/14/2010 | 5/24/2019 | [Insert Federal Register citation] |
9.301 | Applicability | 5/14/2010 | 5/24/2019 | [Insert Federal Register citation] |
9.302 | Prohibition of Visible Emissions during Air Pollution Alerts and Warnings | 5/14/2010 | 5/24/2019 | [Insert Federal Register citation] |
9.401 | Emissions Certification | 5/14/2010, 3/21/2014 | 5/24/2019 | [Insert Federal Register citation] |
9.402 | Sale of New Solid Fuel Burning Devices | 5/14/2010, 3/21/2014 | 5/24/2019 | [Insert Federal Register citation] |
9.501 | Removal of Solid Fuel Burning Devices upon Sale of the Property | 5/14/2010 | 5/24/2019 | [Insert Federal Register citation] |
9.601 | Contingency Measures listed below in this subchapter go into affect if the non-attainment area fails to attain the NAAQS or to make reasonable progress in reducing emissions (see Chapter 3) | 5/14/2010 | 5/24/2019 | [Insert Federal Register citation] |
* * * * * * *
14.106 | Administrative Review | 5/14/2010, 3/21/2014 | 5/24/2019 | [Insert Federal Register citation] |
14.107 | Control Board Hearings | 3/21/2014 | 5/24/2019 | [Insert Federal Register citation] |
* * * * * * *
15.104 | Solid Fuel Burning Device Penalties | 3/21/2014 | 5/24/2019 | [Insert Federal Register citation] |
* * * * * * *

* * * * *

(e) * * *

Title/subject | State effective date | Notice of final rule date | NFR citation
* * * * * * *
(6) Missoula County
* * * * * * *
Missoula 1987 PM-10 Limited Maintenance Plan |  | 6/24/19 | [Insert Federal Register citation].
* * * * * * *

3. Section 52.1374 is amended by adding paragraph (d) to read as follows:

§ 52.1374 Control strategy: Particulate matter.

* * * * *

(d) On August 3, 2016, the State of Montana submitted a maintenance plan for the Missoula PM10 nonattaiment area and requested that this area be redesignated to attainment for the PM10 National Ambient Air Quality Standards. The redesignation request and maintenance plan satisfy all applicable requirements of the Clean Air Act.

PART 81—DESIGNATION OF AREAS FOR AIR QUALITY PLANNING PURPOSES

4. The authority citation for part 81 continues to read as follows:

Authority: 42 U.S.C. 7401 et seq.

Subpart C—Section 107 Attainment Status Designations

5. In § 81.327 the table entitled “Montana—PM-10” is amended by revising the entry for “Missoula County, Missoula and vicinity including the following sections:” to read as follows:

§ 81.327 Montana.

* * * * *

Montana—PM-10
Designated area | Designation: Date | Designation: Type | Classification: Date | Classification: Type
* * * * * * *
Missoula County, Missoula and vicinity including the following sections: | 6/24/2019 | Attainment
* * * * * * *

* * * * *

[FR Doc. 2019-10797 Filed 5-23-19; 8:45 am]

BILLING CODE 6560-50-P